DEPARTMENT OF JUSTICE

Office of Justice Programs

[OJP (BJA) Docket No. 1779]

Meeting of the Public Safety Officer Medal of Valor Review Board

AGENCY: Office of Justice Programs (OJP), Bureau of Justice Assistance (BJA).

ACTION: Notice of meeting.

SUMMARY: This is an announcement of a meeting (via WebEx/conference call-in) of the Public Safety Officer Medal of Valor Review Board to consider a range of issues of importance to the Board, to include but not limited to: Membership/terms; nomination eligibility; pending 2018-2019 recommendations; pending 2019-2020 nominations; program marketing and outreach. The meeting date and time is listed below.

DATES: August 3, 2020, from 1:00 p.m. to 2:00 p.m. EDT.

ADDRESSES: This meeting will take place via WebEx/conference call-in. Public access to the meeting will be provided by the Bureau of Justice Assistance, Office of Justice Programs upon request and subsequent invitation. (See SUPPLEMENTARY INFORMATION below for registration requirements.)

FOR FURTHER INFORMATION CONTACT: Gregory Joy, Policy Advisor, Bureau of Justice Assistance, Office of Justice Programs, 810 7th Street NW, Washington, DC 20531, by telephone at (202) 514-1369, toll free (866) 859-2687, or by email at Gregory.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer.

This WebEx meeting is open to the public. Members of the public who wish to participate must register at least seven (7) days in advance of the meeting by contacting Mr. Joy. Upon registration, an invitation will be extended to participate in this WebEx meeting.

Access to the meeting will not be allowed without prior registration. Please submit any comments or written statements for consideration by the Review Board in writing at least seven (7) days in advance of the meeting date.

Gregory Joy,
Policy Advisor/Designated Federal Officer, Bureau of Justice Assistance.

[FR Doc. 2020-12104 Filed 6-3-20; 8:45 am]

BILLING CODE 4410-18-P